DEPARTMENT OF HEALTH AND HUMAN SERVICES

Office of the Secretary

45 CFR part 5b

Privacy Act; Implementation

AGENCY: Office of the Secretary, HHS.

ACTION: Final rule.

SUMMARY: The Office for Civil Rights (OCR) of the Department of Health and Human Services has implemented a new system of records (SOR) entitled the “Program Information Management System (PTMS), HHS/OS/OCR (09-90-0052).” This system has replaced OCR's two previous systems of records, the “Case Information Management System (CIMS), HHS/OS/OCR (09-90-0050),” and the “Complaint File and Log, HHS/OS/OCR (09-90-0051).” PIMS is a new integrated system with enhanced electronic storage, retrieval and tracking capacities. The final rule exempts the investigative records in PIMS from the notification, access, correction and amendment provisions of the Privacy Act, 5 U.S.C. 552a, pursuant to subsection (k)(2), which applies to investigative materials compiled for law enforcement purposes.

DATES: This is effective on November 6, 2003.

FOR FURTHER INFORMATION CONTACT: Norman Oslik, Chief Information Officer, Office for Civil Rights, Department of Health and Human Services, Room 509F, Hubert H. Humphrey Building, 200 Independence Avenue, SW., Washington, DC 20201. Telephone number: (202) 619-0553. (TTY No. 1-800-537-7697).

SUPPLEMENTARY INFORMATION: The Office for Civil Rights (OCR) is responsible for enforcing Title VI of the Civil Rights Act of 1964, Section 504 of the Rehabilitation Act of 1973, the Age Discrimination Act of 1975, and other statutes that prohibit discrimination by programs or entities that receive Federal financial assistance. Additionally, OCR has jurisdiction over Federally conducted programs in cases involving disability based discrimination under section 504 of the Rehabilitation Act, over state and local public entities in cases involving disability based discrimination under Title II of the Americans with Disabilities Act of 1990 and certain health plans, health clearing houses, and health care providers with respect to enforcement of medical privacy obligations under the Heath Insurance Portability and Accountability Act (HIPAA).

Formerly, OCR maintained two systems of records: The “Case Information Management System (CIMS) HHS/OS/OCR (09-90-0050),” and the “Complaint File and Log, HHS/OS/OCR (09-90-0051).” CIMS included the Case Activity Tracking System (CATS) which was created to use newer technology (i.e., moved CIMS off a mainframe computer onto a local network environment), but continued to collect and store the same information as in CIMS. Records maintained in the Complaint File and Log were exempted from the notification, access, correction and amendment provisions of the Privacy Act under subsection (k)(2) concerning records compiled for law enforcement purposes. 49 FR 14107 (April 10, 1984).

Pursuant to the notification of a new system of records (SOR), published in the Federal Register on September 6, 2002 (67 FR 57011), OCR implemented a new system of records, Program Information Management System (PIMS), HHS/OS/OCR (09-90-0052). PIMS is used by OCR staff and consists of an electronic repository of information and documents and supplementary paper document files. PIMS effectively combines and replaces OCR's two former systems of records (CIMS and Complaint File and Log) into a single integrated system with enhanced electronic storage, retrieval and tracking capacities. While the types of information collected and stored in PIMS are the same as those stored in CIMS and Complaint File and Log, PIMS allows OCR to more effectively manage the data it collects.

OCR investigative files maintained in PIIMS either as paper records or electronic documents are records compiled for law enforcement purposes. In the course of investigations, OCR often has a need to obtain confidential information involving individuals other than the complainant. In these cases, it is necessary for OCR to preserve the confidentiality of this information to avoid unwarranted invasions of personal privacy and to assure recipients of Federal financial assistance that such information provided to OCR will be kept confidential. This assurance is often central to resolving disputes concerning access by OCR to the recipient's records, and is necessary to facilitate prompt and effective completion of the investigations.

Unrestricted disclosure of confidential information in OCR files can impede ongoing investigations, invade personal privacy of individuals, reveal the identities of confidential sources, or otherwise impair the ability of OCR to conduct investigations. For these reasons, the Department published a notice of proposed rulemaking, 67 FR 56252 (September 3, 2002) to exempt all investigative records maintained in PIMS from the notification, access, correction and amendment provisions under subsection (k)(2) of the Privacy Act. The Department received no public comments.

List of Subjects in 45 CFR Part 5b

Privacy.

For reasons set out in the preamble, the Department's Privacy Act Regulation, part Sb of 45 CFR Subtitle A, is amended as follows:

PART 5b—PRIVACY ACT REGULATIONS

1. The authority citation for part 5b continues to read as follows:

Authority: 5 U.S.C. 301; 5 U.S.C. 552a.

2. Section 5b.11 is amended by adding paragraph (b)(2)(ii)(G) to read as follows:

§ 5b.11 Exempt systems.

* * * * *

(b) * * *

(2) * * *

(ii) * * *

(G) Investigative materials compiled for law enforcement purposes for the Program Information Management System, HHS/OS/OCR.

* * * * *

Dated: August 29, 2003.
Richard M. Campanelli,
Director, Office for Civil Rights.
Dated: October 28, 2003.
Tommy G. Thompson,
Secretary.

[FR Doc. 03-27716 Filed 11-5-03; 8:45 am]

BILLING CODE 4153-01-P